SECURITIES AND EXCHANGE COMMISSION

Proposed Collection; Comment Request

Upon Written Request, Copies Available From: Securities and Exchange Commission Office of Filings and Information Services Washington, DC 20549

Extension:

Form F-80, SEC File No. 270-357, OMB Control No. 3235-0404

Form 18, SEC File No. 270-105, OMB Control No. 3235-0121

Notice is hereby given that pursuant to the Paperwork Reduction Act of 1995 (44 U.S.C. 3501 et seq.) the Securities and Exchange Commission (“Commission”) is soliciting comments on the collections of information summarized below. The Commission plans to submit these existing collections of information to the Office of Management and Budget for extension and approval.

Form F-80 is used by certain Canadian issuers to register securities to be issued in exchange offers or business combinations. All information provided on Form F-80 must be submitted to the Commission. Form F-80 is required to be filed on occasion and is a public document. Form F-80 takes approximately 2 hours to prepare and is filed by 2 respondents for a total of 4 burden hours.

Form 18 is used for the registration of securities of any foreign government or political subdivision on a U.S. Exchange. All information provided on Form 18 must be submitted to the Commission. Form 18 is filed on occasion and is a public document. Form 18 takes approximately 8 hours to prepare and filed by 5 respondents for total of 40 burden hours.

Written comments are invited on: (a) Whether the proposed collection of information is necessary for the proper performance of the functions of the agency, including whether the information will have practical utility; (b) the accuracy of the agency's estimate of the burden of the collection of information; (c) ways to enhance the quality, utility, and clarity of the information collected; and (d) ways to minimize the burden of the collection of information on respondents, including through the use of automated collection techniques or other forms of information technology. Consideration will be given to comments and suggestions submitted in writing within 60 days of this publication.

Please direct your written comments to Michael E. Bartell, Associate Executive Director, Office of Information Technology, Securities and Exchange Commission, 450 5th Street, NW Washington, DC 20549.

Dated: May 22, 2000.
Margaret H. McFarland,
Deputy Secretary.

[FR Doc. 00-13412 Filed 5-26-00; 8:45 am]

BILLING CODE 8010-01-M